DEPARTMENT OF COMMERCE

International Trade Administration

(C-357-813)

Honey from Argentina: Notice of Rescission of Countervailing Duty Administrative Review

AGENCY: Import Administration, International Trade Administration, U.S. Department of Commerce.

EFFECTIVE DATE: April 5, 2007.

FOR FURTHER INFORMATION CONTACT: Elfi Blum, AD/CVD Operations, Office 6, Import Administration, International Trade Administration, U.S. Department of Commerce, 14th Street and Constitution Avenue, NW, Washington DC 20230; telephone: (202) 482-0197.

SUPPLEMENTARY INFORMATION:

Background

On December 1, 2006, the Department of Commerce (“the Department”) published a notice of opportunity to request an administrative review of the countervailing duty order on Honey from Argentina. See Antidumping or Countervailing Duty Order, Finding, or Suspended Investigation; Opportunity to Request Administrative Review, 71 FR 69543 (December 1, 2006). On December 29, 2006, the American Honey Producers Association and the Sioux Honey Association (petitioners) timely requested that the Department conduct an administrative review of the countervailing duty order on honey from Argentina for the period January 1, 2006 through December 31, 2006. Shortly thereafter, the Department published a notice of the initiation of the countervailing duty administrative review of honey from Argentina for the period January 1, 2006 through December 21, 2006. See Initiation of Antidumping and Countervailing Duty Administrative Reviews, 72 FR 5005 (February 2, 2007). On March 9, 2007, petitioners withdrew their request for this administrative review of the countervailing duty order of honey from Argentina. No other party requested an administrative review of this countervailing duty order.

Rescission of Review

The Department's regulations at section 351.213(d)(1) provide that the Department will rescind an administrative review if the party that requested the review withdraws its request for review within 90 days of the date of publication of the notice of initiation of the requested review, or withdraws its request at a later date if the Department determines that it is reasonable to extend the time limit for withdrawing the request. Petitioners, the only requestors of this review, submitted their request for withdrawal in a timely manner. Therefore, the Department is rescinding the administrative review of the countervailing duty order on honey from Argentina for the period January 1, 2006 through December 31, 2006. The Department intends to issue assessment instructions to U.S. Customs and Border Protection within 15 days of publication of this notice.

Notification Regarding APOs

This notice also serves as a reminder to parties subject to administrative protective orders (APO) of their responsibility concerning the return or destruction of proprietary information disclosed under APO in accordance with section 351.305 of the Department's regulations, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and section 351.213(d)(4) of the Department's regulations.

Dated: March 30, 2007.
Stephen J. Claeys,
Deputy Assistant Secretary for Import Administration.

[FR Doc. E7-6385 Filed 4-4-07; 8:45 am]

BILLING CODE 3510-DS-S